DEPARTMENT OF COMMERCE

National Oceanic and Atmospheric Administration

[I.D. 010705B]

Marine Mammals; File Nos. 1072-1771 and 540-1502

AGENCY: National Marine Fisheries Service (NMFS), National Oceanic and Atmospheric Administration (NOAA), Commerce.

ACTION: Issuance of permit and permit amendment.

SUMMARY: Notice is hereby given of the following actions: Dr. Colleen Reichmuth Kastak, Long Marine Laboratory, Institute of Marine Science, University of California at Santa Cruz, 100 Schaffer Road, Santa Cruz, CA 95060, has been issued a scientific research permit (No. 1072-1771-00); and John Calambokidis, Cascadia Research Collective, 218 1/2 West Fourth Avenue, Olympia, WA 98501, has been issued an amendment to scientific research Permit No. 540-1502-00.

ADDRESSES: The permit, permit amendment, and related documents are available for review upon written request or by appointment in the following office(s):

File Nos. 1072-1771 and 540-1502: Permits, Conservation and Education Division, Office of Protected Resources, NMFS, 1315 East-West Highway, Room 13705, Silver Spring, MD 20910; phone (301)713-2289; fax (301)713-0376;

File No. 540-1502: Northwest Region, NMFS, 7600 Sand Point Way NE, BIN C15700, Bldg. 1, Seattle, WA 98115-0700; phone (206)526-6150; fax (206)526-6426; and

File Nos. 1072-1771 and 540-1502: Southwest Region, NMFS, 501 West Ocean Blvd., Suite 4200, Long Beach, CA 90802-4213; phone (562)980-4001; fax (562)980-4018.

FOR FURTHER INFORMATION CONTACT: Amy Sloan or Tammy Adams, (301)713-2289.

SUPPLEMENTARY INFORMATION: Permit No. 1072-1771-00 has been issued under the authority of the Marine Mammal Protection Act of 1972, as amended (MMPA; 16 U.S.C. 1361 et seq.), and the Regulations Governing the Taking and Importing of Marine Mammals (50 CFR part 216).

Permit No. 1072-1771 authorizes continued research designed to evaluate hearing sensitivity, memory, and learning capabilities of up to seven captive pinnipeds (three California sea lions, Zalophus californianus; two Pacific harbor seals, Phoca vitulina; and two Northern elephant seals, Mirounga angustirostris).

The permit amendment (No. 540-1502-01) has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The amendment extends the expiration date of the permit from November 30, 2004 to November 30, 2005. No additional takes have been authorized. Mr. Calambokidis is authorized to (1) conduct aerial surveys to determine the abundance and distribution of marine mammals off the coasts of California, Oregon, and Washington; (2) conduct vessel surveys and photographic identification activities to determine the abundance, movements, and population structure of large whales in the North Pacific; (3) collect skin biopsies to determine sex, relatedness, and evaluate stock structure of large whales, especially blue and humpback whales; and (4) conduct tagging activities to examine the diving behavior, feeding, and movements of large whales.

In compliance with the National Environmental Policy Act of 1969 (42 U.S.C. 4321 et seq.), a final determination has been made that the activities proposed are categorically excluded from the requirement to prepare an environmental assessment or environmental impact statement.

Issuance of the permit amendment (No. 540-1502-01) as required by the ESA, was based on a finding that such permit amendment: (1) was applied for in good faith; (2) will not operate to the disadvantage of such endangered species; and (3) is consistent with the purposes and policies set forth in section 2 of the ESA.

Dated: January 7, 2005.
Patrick Opay,
Acting Chief, Permits, Conservation and Education Division, Office of Protected Resources, National Marine Fisheries Service.

[FR Doc. 05-752 Filed 1-12-05; 8:45 am]

BILLING CODE 3510-22-S